CORPORATION FOR NATIONAL AND COMMUNITY SERVICE

Agency Information Collection Activities; Submission to the Office of Management and Budget for Review and Approval; Comment Request; AmeriCorps Diversity Questionnaire Form

AGENCY: Corporation for National and Community Service.

ACTION: Notice of information collection; request for comment.

SUMMARY: The Corporation for National and Community Service, operating as AmeriCorps, has submitted a public information collection request (ICR) entitled AmeriCorps Diversity Questionnaire Form for review and approval in accordance with the Paperwork Reduction Act.

DATES: Written comments must be submitted to the individual and office listed in the ADDRESSES section by May 2, 2022.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of this ICR, with applicable supporting documentation, may be obtained by calling the Corporation for National and Community Service, Sharron Tendai at 202-606-3904 or by email to stendai@cns.gov.

SUPPLEMENTARY INFORMATION: The OMB is particularly interested in comments which:

• Evaluate whether the proposed collection of information is necessary for the proper performance of the functions of CNCS, including whether the information will have practical utility;

• Evaluate the accuracy of the agency's estimate of the burden of the proposed collection of information, including the validity of the methodology and assumptions;

• Propose ways to enhance the quality, utility, and clarity of the information to be collected; and

• Propose ways to minimize the burden of the collection of information on those who are to respond, including through the use of appropriate automated, electronic, mechanical, or other technological collection techniques or other forms of information technology.

Comments

A 60-day notice requesting public comment was published in the Federal Register on January 13, 2022 at 87 FR 2145. The comment period ended March 15, 2022. Twenty (20) public comments were received from the notice. Most of the comments focused on the purpose of the data collection, the ability or organizational capacity of partners to collect the requested data, the design of the data collection tool, the format of the tool, the usage of the data, the assessment of burden, and training and technical assistance.

Changes to the questionnaire include separating the requested data into two sections for project information and organizational information to be more user-friendly, adding additional basic organizational information to better track data in AmeriCorps' systems, clarifying the instructions based on feedback, clarifying purpose and usage of the data to be collected, adding definitions based on feedback and aligning definitions with the rest of the revisions to the tool. The burden estimates are also increasing because AmeriCorps revised the amount of time estimated to complete the questionnaire from 30 minutes to 5 hours to account for the time it would take an organization to collect and analyze the data (previously not included) as well as time to complete the questionnaire. The burden has also increased as AmeriCorps also plans to use the Diversity Questionnaire in all of its programs (AmeriCorps State and National, Volunteers in Service to America (VISTA), National Civilian Community Corps (NCCC) and AmeriCorps Seniors) while the current OMB Control Number covers AmeriCorps State & National.

Title of Collection: AmeriCorps Diversity Questionnaire Form.

OMB Control Number: 3045-0193. Type of Review: Renewal.

Respondents/Affected Public: Organizations OR State, Local or Tribal Governments.

Total Estimated Number of Annual Responses: 3,350.

Total Estimated Number of Annual Burden Hours: 16,750.

Abstract: This information collection addresses the diversity of two populations—the people being served by AmeriCorps resources and partners of AmeriCorps. It aims to collect the proposed reach of beneficiaries of the AmeriCorps investment, disaggregated by poverty status, as well as demographic information. It also collects demographic information about the Board of Directors, senior leadership and staff of organizations that are applying for AmeriCorps resources. The demographic information is racial/ethnic identification, gender, LGBTQIA+, disability, and veterans' status. This is a Revision to an Existing Collection. The revisions are intended to improve the tool based on public feedback as well as analysis of the first round of information collection. The revisions aim to clarify the intended use of the data, render the tool more user-friendly, improve instructions, clarify definitions and enable AmeriCorps to track the information more effectively. The information collection will otherwise be used in the same manner as the existing application. CNCS also seeks to continue using the current application until the revised application is approved by OMB. The current application is due to expire on March 31, 2022.

Dated: March 25, 2022.
Anna Mecagni,
Chief of Program Operations.

[FR Doc. 2022-06761 Filed 3-30-22; 8:45 am]

BILLING CODE 6050-28-P